Proclamation 10839 of October 11, 2024

Indigenous Peoples' Day, 2024

By the President of the United States of America

A Proclamation

On Indigenous Peoples' Day, we honor Indigenous peoples' strength, courage, and resilience. We celebrate the vast contributions of Indigenous communities to the world. And we recommit to respecting Tribal sovereignty and self-determination and working to usher in a new era of our Nation-to-Nation relationships.

The history of America's Indigenous peoples is marked by perseverance, survival, and a deep commitment to and pride in their heritage, right to self-governance, and ways of life. Since time immemorial, Indigenous peoples have built and sustained powerful Tribal Nations, cultivated rich cultures, and established vibrant communities. And their discoveries and knowledge still benefit us today. But because of our Nation's failed policies of the past, generations of Native peoples have faced cruelty, violence, and intimidation. They were forced to leave their homelands, prohibited from speaking their own languages and practicing their sacred traditions, and forced into assimilation. Indigenous lives were lost, livelihoods were ripped away, and communities were fundamentally altered. Despite the trauma and turmoil, Indigenous peoples have persisted and survived. Their stories are testaments to the bravery and resolve of generations to preserve their heritage, cultures, and identities for those to come after them.

Today, Indigenous peoples lead in every way, share their histories, and strengthen their communities. They are also stewarding lands and waters, growing our shared prosperity, and celebrating the good of our Nation while pushing us to tell the full truth of our history. Indigenous peoples have long served in the United States military, fighting for democracy. And Indigenous communities continue to be an integral part of the fabric of the United States, contributing so much to our shared prosperity.

I remain committed to writing a new and better chapter in our history. To make this new era of self-determination a reality, we must honor the solemn promises the United States made to fulfill our trust and treaty obligations to Tribal Nations and work together to rebuild Tribal economies and institutions.

From day one, I have worked to include Indigenous voices at the table in all we do. I have appointed Native Americans to lead across the Federal Government, including the Secretary of the Interior, Deb Haaland—America's first Native American Cabinet secretary—and so many others serving in key roles in my Administration. I was proud to re-establish the White House Council on Native American Affairs to help coordinate policy. Together, we have taken historic steps to improve the consultation process between Federal agencies and Tribal Nations.

I also believe that Tribal Nations know best what is right for their communities, and they do better when they make their own decisions. That is why I signed an Executive Order to respect the Nation-to-Nation relationship by ensuring Federal agencies respect the autonomy of tribes, cutting red tape so Tribal leaders can deliver for their communities. At the same time, we are strengthening the Buy Indian Act so that Federal agencies get more goods and services from Native-owned businesses. These initiatives will help grow Tribal economies while respecting Tribal sovereignty and Tribal Nations' right to build a future on their own terms.

Since I came into office, the Federal Government has made record investments in Tribal Nations. My American Rescue Plan—the largest direct Federal investment in Tribal Nations ever—helped provide COVID-19 vaccinations to Tribal communities and got our economy going again. My Bipartisan Infrastructure Law is the single biggest investment in Tribal roads, bridges, water, high-speed internet, electricity, irrigation, environmental cleanup, and more. My Inflation Reduction Act is the biggest investment in fighting climate change ever, anywhere in the history of the world. It is helping Tribal communities lead in the transition to clean energy and mitigate the impact of droughts, wildfires, and rising sea levels that threaten Native lives and precious homelands. My Administration has also provided increased resources to fight the opioid epidemic and expand access to crisis care in Tribal communities. Given that Native American women are two times more likely to die of pregnancy-related causes than White women, my Administration has taken significant steps to improve maternal health. And my Administration also secured the first-ever advance funding for the Indian Health Service so hospitals can plan ahead, order supplies, and hire doctors.

When my Administration reauthorized the Violence Against Women Act in 2022, we included historic provisions to reaffirm Tribal sovereignty and expand Tribal jurisdiction in cases where outside perpetrators harm members of their Nation. And recognizing the ties of Indigenous peoples across North America, I supported a Trilateral Working Group with Canada and Mexico to ensure Indigenous women and girls in all three countries can live free from violence.

My Administration is also preserving important ancestral Tribal lands and waters. I have protected and conserved more than 42 million acres of our Nation's lands and waters. I established, expanded, or restored 11 national monuments—including Bears Ears National Monument, Grand Staircase-Escalante National Monument, Avi Kwa Ame National Monument, Baaj Nwaavjo I'tah Kukveni-Ancestral Footprints of the Grand Canyon National Monument, Berryessa Snow Mountain National Monument, and others containing sites considered sacred to Tribal Nations. We are advancing the proposed Chumash Heritage National Marine Sanctuary, which stretches along 116 miles of California coastline and has been home to coastal, ocean-going Tribal Nations and Indigenous peoples for tens of thousands of years. My Administration has also signed over 190 co-stewardship or co-management agreements with Tribes, and we are working to sign more.

On Indigenous Peoples' Day, we recognize that it is hard work to heal the wrongs of the past and to change course and move forward, but together, nothing is beyond our capacity. May we take pride in the progress we have made to establish a new era of Tribal sovereignty and Indigenous self-determination—one grounded in dignity, respect, and friendship.

NOW, THEREFORE, I, JOSEPH R. BIDEN JR., President of the United States of America, by virtue of the authority vested in me by the Constitution and the laws of the United States, do hereby proclaim October 14, 2024, as Indigenous Peoples' Day. I call upon the people of the United States to observe this day with appropriate ceremonies and activities. I also direct that the flag of the United States be displayed on all public buildings on the appointed day in honor of our diverse history and the Indigenous peoples who contribute to shaping this Nation.

IN WITNESS WHEREOF, I have hereunto set my hand this eleventh day of October, in the year of our Lord two thousand twenty-four, and of the Independence of the United States of America the two hundred and forty-ninth.

[FR Doc. 2024-24150

Filed 10-16-24; 8:45 am]

Billing code 3395-F4-P